DEPARTMENT OF TRANSPORTATION

[Docket No: PHMSA-2024-0137]

Pipeline Safety: Information Collection Activities

AGENCY: Pipeline and Hazardous Materials Safety Administration (PHMSA), DOT.

ACTION: Notice and request for comments.

SUMMARY: In compliance with the Paperwork Reduction Act of 1995, this notice announces that the eight information collection requests abstracted below are being forwarded to the Office of Management and Budget (OMB) for review and comment. A Federal Register notice with a 60-day comment period soliciting comments on the information collections was published on October 10, 2024.

DATES: Interested persons are invited to submit comments on or before January 27, 2025.

ADDRESSES: The public is invited to submit comments regarding these information collection requests, including suggestions for reducing the burden, to Office of Management and Budget (OMB), Attention: Desk Officer for the Office of the Secretary of Transportation, 725 17th Street NW, Washington, DC 20503. Comments can also be submitted electronically at www.reginfo.gov/public/do/PRAMain.

FOR FURTHER INFORMATION CONTACT: Angela Hill by telephone at 202-680-2034 or by email at angela.hill@dot.gov.

SUPPLEMENTARY INFORMATION:

I. Background

Title 5, Code of Federal Regulations section 1320.8(d), requires the Pipeline and Hazardous Materials Safety Administration (PHMSA) to provide interested members of the public and affected agencies the opportunity to comment on information collection and recordkeeping requests before they are submitted to OMB for approval. In accordance with this regulation, on October 10, 2024, PHMSA published a Federal Register notice (89 FR 82294) with a 60-day comment period soliciting comments on its intent to request OMB's renewed approval of several information collection requests that are due to expire in 2025.

During the 60-day comment period, PHMSA received one comment from an anonymous source on a matter not pertaining to the proposed renewal of the impacted information collections.

II. Summary of Impacted Collections

Section 1320.8(d), title 5, Code of Federal Regulations, requires PHMSA to provide interested members of the public and affected entities an opportunity to comment on information collection and recordkeeping requests. PHMSA will request a three-year term of approval for each of the following information collection activities.

The following information is provided for each information collection: (1) Title of the information collection; (2) OMB control number; (3) Current expiration date; (4) Type of request; (5) Abstract of the information collection activity; (6) Description of affected public; (7) Estimate of total annual reporting and recordkeeping burden; and (8) Frequency of collection.

PHMSA requests comments on the following:

1. Title: OPID Assignment Request and Registry Notifications.

OMB Control Number: 2137-0627.

Current Expiration Date: 3/31/2025.

Type of Request: Renewal with no change of a currently approved collection.

Abstract: The National Registry of Pipeline and LNG Operators serves as the storehouse for the reporting requirements for an operator regulated or subject to reporting requirements under 49 CFR parts 192, 193, or 195. This mandatory information collection would require jurisdictional pipeline operators to submit the required data to register with the National Registry of Pipeline and LNG Operators and notify PHMSA when they experience significant asset changes, including new construction, that affect PHMSA's ability to accurately monitor and assess pipeline safety performance. Certain types of changes to, or within, an operator's facilities or pipeline network represent potential safety-altering activities for which PHMSA may need to inspect, investigate, or otherwise oversee to ensure that any public safety concerns are adequately and proactively addressed. The forms for assigning and maintaining Operator Identification (OPID) information are the Operator Assignment Request Form (PHMSA F 1000.1) and Operator Registry Notification Form (PHMSA F 1000.2). The purpose of this information collection is to maintain an accurate assessment of the nation's pipeline infrastructure and to be kept abreast of conditions that could potentially compromise the safety and economic viability of the U.S. pipeline system. Due to the provisions contained within the Safety of Gas Gathering Pipelines: Extension of Reporting Requirements, Regulation of Large, High-Pressure Lines, and Other Related Amendments final rule, gas gathering pipeline operators must now request OPIDs due to the repeal of the reporting exception for gathering pipelines other than regulated gathering lines as determined in § 192.8. PHMSA plans to adjust the burden for this information collection to account for this addition to the reporting community.

Affected Public: Operators of natural gas and hazardous liquid pipeline systems and operators of liquefied natural gas facilities.

Annual Reporting and Recordkeeping Burden:

Estimated number of responses: 744.

Estimated annual burden hours: 744.

Frequency of collection: On occasion

2. Title: Qualification of Pipeline Safety Training.

OMB Control Number: 2137-0600.

Current Expiration Date: 04/30/2025.

Type of Request: Renewal with no change of a currently approved information collection.

Abstract: 49 CFR part 192 subpart N and part 195 subpart G require all individuals who operate and maintain pipeline facilities to be qualified and keep records of qualification. The purpose of this mandatory information collection request is to ensure compliance with the record keeping requirements prescribed in the federal pipeline safety regulations. Pipeline operators must make and maintain the records as described and have those records available for compliance inspection by PHMSA staff upon request. Examples of such records include the identification of qualified individuals; identification of covered tasks; dates of current qualification; and qualification methods. Records supporting an individual's current qualification shall be maintained while the individual is performing the covered task. Records of prior qualification and records of individuals no longer performing covered tasks shall be retained for a period of five years.

Affected Public: Operators of PHMSA-regulated pipelines.

Annual Reporting and Recordkeeping Burden:

Total Annual Responses: 29,172.

Total Annual Burden Hours: 7,293.

Frequency of Collection: On occasion.

3. Title: Hazardous Liquid Integrity Management.

OMB Control Number: 2137-0605.

Current Expiration Date: 04/30/2025.

Type of Request: Renewal with no change of a currently approved information collection.

Abstract: Operators of Hazardous Liquid Pipelines are required to document the continual assessment and evaluation of their pipelines' integrity through inspection or testing, as well as remedial preventive, and mitigative actions. In cases where a determination about pipeline threats has not been obtained within 180 days following the date of inspection, pipeline operators must notify PHMSA in writing and provide an expected date when adequate information will become available. Operators must also notify PHMSA if they are unable to assess their pipeline via an in-line inspection. Operators who choose to use an alternate assessment method must demonstrate that their pipeline is not capable of accommodating an in-line inspection tool and that the use of an alternative assessment method will provide a substantially equivalent understanding of the condition of the pipeline. This mandatory record keeping requirement supports the U.S. Department of Transportation's “SAFETY STRATEGIC GOAL” which targets three main strategic initiatives: managing risk and integrity, sharing responsibility, and providing effective stewardship. This goal enhances public health and safety by working toward the elimination of transportation-related deaths and injuries. This information is used by PHMSA to determine compliance with federal pipeline safety regulations and is also used by Agency and State Officials to assist federal and state pipeline safety inspectors who audit this information when they conduct compliance inspections and to provide background for failure investigations.

Affected Public: Operators of hazardous liquid pipeline systems.

Annual Reporting and Recordkeeping Burden:

Estimated number of responses: 10,515.

Estimated annual burden hours: 344,807.

Frequency of Collection: On occasion.

4. Title: Public Awareness Program.

OMB Control Number: 2137-0622.

Current Expiration Date: 04/30/2025.

Type of Request: Renewal with no change of a currently approved information collection.

Abstract: This information collection request would require pipeline operators to develop and implement public awareness programs. The public awareness programs should establish communications and provide information necessary to enhance public understanding of how pipelines function and the public's role in promoting pipeline safety. This mandatory information collection requires operators to submit their completed programs to PHMSA or, in the case of an intrastate pipeline facility operator, the appropriate State agency. The operator's program documentation and evaluation results must also be available for periodic review by appropriate regulatory agencies. This information will be used by PHMSA to evaluate compliance with pipeline safety regulations. The purpose of the collection is to prevent the risks caused by unintentional pipeline releases and their impact on the public and the environment.

Affected Public: Operators of natural gas and hazardous liquid pipelines.

Annual Reporting and Recordkeeping Burden:

Estimated number of responses: 45,004.

Estimated annual burden hours: 517,546.

Frequency of Collection: On occasion.

5. Title: Gas and Liquid Pipeline Safety Program Certification.

OMB Control Number: 2137-0584.

Current Expiration Date: 05/31/2025.

Type of Request: Renewal with no change of a currently approved information collection.

Abstract: Section 60105 of 49 U.S.C. sets forth specific requirements a state must meet to qualify for certification status to assume regulatory and enforcement responsibility for intrastate pipelines, i.e., state adoption of minimum federal safety standards, state inspection of pipeline operators to determine compliance with the standards, and state provision for enforcement sanctions substantially the same as those authorized by chapter 601, 49 U.S.C. A state must submit an annual certification to assume responsibility for regulating intrastate pipelines, and states who receive Federal grant funding must have adequate damage prevention plans and associated records in place. PHMSA uses this information to evaluate a state's eligibility for Federal grants and to enforce regulatory compliance. This information collection request requires a participating state to annually submit a Gas Pipeline Safety Program Certification and/or a Hazardous Liquid Pipeline Safety Program Certification to PHMSA's Office of Pipeline Safety (OPS) signifying compliance with the terms of the certification and to maintain records detailing a damage prevention plan for PHMSA inspectors whenever requested. The purpose of the collection is to exercise oversight of the grant program and to ensure that states are compliant with federal pipeline safety regulations.

Affected Public: Operators of pipeline facilities.

Annual Reporting and Recordkeeping Burden:

Estimated number of responses: 117.

Estimated annual burden hours: 4,473.

Frequency of collection: On occasion

6. Title: Response Plans for Onshore Oil Pipelines.

OMB Control Number: 2137-0589.

Current Expiration Date: 09/30/2025.

Type of Request: Renewal with no change of a currently approved information collection.

Abstract: Title 49 CFR part 194 requires an operator of an onshore oil pipeline facility to prepare and submit an oil spill response plan to PHMSA for review and approval. This mandatory recordkeeping requirement details operators' plans to prepare for emergency situations involving oil spills. This mandatory information collection is used by PHMSA to determine if an operator is compliant with the requirements in part 194. Plans are submitted and/or updated annually. This information collection covers operators' submission of facility response plans for onshore hazardous liquid pipeline facilities.

Affected Public: Operators of onshore oil pipeline facilities.

Annual Reporting and Recordkeeping Burden:

Estimated number of responses: 540.

Estimated annual burden hours: 73,980.

Frequency of Collection: On occasion.

7. Title: Gas Transmission Integrity Management in High Consequence Areas.

OMB Control Number: 2137-0610.

Current Expiration Date: 09/30/2025.

Type of Request: Renewal with no change of a currently approved information collection.

Abstract: This mandatory information collection request pertains to gas transmission operators jurisdictional to 49 CFR part 192 subpart O Gas Transmission Integrity Management Program. The information collection requires gas transmission operators in high consequence areas to maintain a written integrity management program and keep records that demonstrate compliance with 49 CFR part 192 subpart O. Operators must maintain their integrity management records for the life of the pipeline, and PHMSA or State regulators may review it as a part of inspections. Gas transmission operators are also required to report to PHMSA certain actions related to their integrity management program. This information collection supports the DOT strategic goal of safety by reducing the number of incidents in natural gas transmission pipelines.

Affected Public: Operators of gas transmission pipeline systems.

Annual Reporting and Recordkeeping Burden:

Estimated number of responses: 733.

Estimated annual burden hours: 1,018,807.

Frequency of Collection: On occasion.

8. Title: Control Room Management/Human Factors.

OMB Control Number: 2137-0624.

Current Expiration Date: 09/30/2025.

Type of Request: Renewal with no change of a currently approved information collection.

Abstract: Operators of gas and hazardous liquid pipelines must develop, implement, and submit human factors management plans designed to reduce risk associated with human factors in each control room. This mandatory record keeping requirement supports the U.S. Department of Transportation's “SAFETY STRATEGIC GOAL” which targets three main strategic initiatives: managing risk and integrity, sharing responsibility, and providing effective stewardship. This goal enhances public health and safety by working toward the elimination of transportation-related deaths and injuries. The information is used by PHMSA to determine compliance with federal pipeline safety regulations and is also used by Agency and State Officials to assist federal and state pipeline safety inspectors who audit this information when they conduct compliance inspections and to provide background for failure investigations.

Affected Public: Operators of natural gas and hazardous liquid pipeline systems.

Annual Reporting and Recordkeeping Burden:

Estimated number of responses: 11,656.

Estimated annual burden hours: 127,328.

Frequency of Collection: On occasion.

Comments are invited on:

(a) The need for this information collections for the proper performance of the functions of the Agency, including whether the information will have practical utility;

(b) The accuracy of the Agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Authority: The Paperwork Reduction Act of 1995; 44 U.S.C. Chapter 35, as amended, and 49 CFR 1.48.

Issued in Washington, DC, on December 20, 2024, under authority delegated in 49 CFR 1.97.
John A. Gale,
Director, Standards and Rulemaking Division.

[FR Doc. 2024-30990 Filed 12-26-24; 8:45 am]

BILLING CODE 4910-60-P